DEPARTMENT OF HOMELAND SECURITY

8 CFR Parts 214 and 274a

[CIS No. 2708-21]

RIN 1615-AC77

DEPARTMENT OF LABOR

Employment and Training Administration

20 CFR Part 655

[DOL Docket No. ETA-2022-0001]

RIN 1205-AC09

Exercise of Time-Limited Authority To Increase the Fiscal Year 2022 Numerical Limitation for the H-2B Temporary Nonagricultural Worker Program and Portability Flexibility for H-2B Workers Seeking To Change Employers

Correction

In rule document 2022-01866, appearing on pages 4722 through 4762 in the issue of Friday, January 28, 2022, make the following correction:

§ 655.64 Special application filing and eligibility provisions for Fiscal Year 2022 under the January 28, 2022 supplemental cap increase. [Corrected]

On page 4761, in the second column, in the second paragraph, on the first line, “January 27, 2022” should read, “January 28, 2022”.

[FR Doc. C1-2022-01866 Filed 2-2-22; 8:45 am]

BILLING CODE 0099-10-D